DEPARTMENT OF ENERGY

Federal Energy Regulatory Commission

[Project No. 2880-015]

Cherokee Falls Hydroelectric Project, LLC; Notice Soliciting Scoping Comments

Take notice that the following hydroelectric application has been filed with the Commission and is available for public inspection.

a. Type of Application: New License.

b. Project No.: 2880-015.

c. Date filed: July 31, 2019.

d. Applicant: Cherokee Falls Hydroelectric Project, LLC.

e. Name of Project: Cherokee Falls Hydroelectric Project.

f. Location: The existing project is located on the Broad River, in Cherokee County, South Carolina. The project does not affect federal land.

g. Filed Pursuant to: Federal Power Act 16 U.S.C. 791 (a)-825(r).

h. Applicant Contact: Beth E. Harris, Enel Green Power North America, Inc., 11 Anderson Street, Piedmont, SC 29673; Telephone (864) 846-0042 ext. 100; Beth.Harris@Enel.com.

i. FERC Contact: Michael Spencer at (202) 502-6093, or at michael.spencer@ferc.gov.

j. Deadline for filing scoping comments: April 5, 2020.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2880-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

Project Description: The Cherokee Falls Project consists of: (1) A 1,819-foot-long granite masonry dam with a 1,701-foot-long spillway and 4-foot-high flashboards; (2) a reservoir with a surface area of 83 acres and a storage capacity of 140 acre-feet; (3) a trash rack intake; (4) a 130-foot-long powerhouse containing one generating unit with a capacity of 4,140 kilowatts and an annual generation of 9,354.9 megawatt-hours; (5) a 150-foot-long tailrace; (6) 93-foot-long generator leads to three 500-kilovolt transformers and (7) a 200-foot-long transmission line to a point of interconnection with the grid.

The Project is operated in a run-of-river mode with a continuous year-round minimum flow of 65 cubic feet per second (cfs) in the bypassed reach. Project operation starts when inflows exceed 665 cfs, the sum of the minimum hydraulic capacity of the turbine (600 cfs) and the minimum flow. All flows greater than 3,165 cfs, which is the sum of the maximum hydraulic capacity of the turbine (3,100 cfs) and the minimum flow, are passed over the spillway.

l. A copy of the application is available for review at the Commission in the Public Reference Room or may be viewed on the Commission's website at http://www.ferc.gov using the eLibrary link. Enter the docket number excluding the last three digits in the docket number field to address the document. For assistance, contact FERC Online Support. A copy is available for inspection and reproduction at the address in Item H above.

m. You may also register online at http://www.ferc.gov/docs-filing/esubscription.asp to be notified via email of new filings and issuances related to this or other pending projects. For assistance, contact FERC Online Support.

n. Scoping Process.

The Commission staff intends to prepare a single Environmental Assessment (EA) for the project in accordance with the National Environmental Policy Act. The EA will consider both site-specific and cumulative environmental impacts and reasonable alternatives to the proposed action.

At this time, we do not anticipate holding on-site public or agency scoping meetings. Instead, we are soliciting your comments and suggestions on the preliminary list of issues and alternatives to be addressed in the EA, as described in scoping document 1 (SD1), issued March 6, 2020.

Copies of SD1 outlining the subject areas to be addressed in the EA were distributed to the parties on the Commission's mailing list and the applicant's distribution list. Copies of SD1 may be viewed on the web at http://www.ferc.gov using the eLibrary link. Enter the docket number excluding the last three digits in the docket number field to access the document. For assistance, call 1-866-208-3676 or for TTY, (202) 502-8659.

Dated: March 6, 2020.
Kimberly D. Bose,
Secretary.

[FR Doc. 2020-05068 Filed 3-11-20; 8:45 am]

BILLING CODE 6717-01-P